DEPARTMENT OF HEALTH AND HUMAN SERVICES

Administration for Children and Families

Proposed Information Collection Activity; Federal Tax Refund Offset, Administrative Offset, and Passport Denial

AGENCY: Office of Child Support Enforcement, Administration for Children and Families, HHS.

ACTION: Request for public comment.

SUMMARY: The Office of Child Support Enforcement (OCSE), Administration for Children and Families (ACF) is requesting the federal Office of Management and Budget (OMB) to approve the Federal Tax Refund Offset, Administrative Offset, and Passport Denial with minor edits to the “Comments” section of the record specifications to clarify the corresponding fields for an additional three years. The current OMB approval expires on June 30, 2022.

DATES: Comments due within 60 days of publication. In compliance with the requirements of the Paperwork Reduction Act of 1995, ACF is soliciting public comment on the specific aspects of the information collection described above.

ADDRESSES: Copies of the proposed collection of information can be obtained and comments may be forwarded by emailing infocollection@acf.hhs.gov. All requests should be identified by the title of the information collection.

SUPPLEMENTARY INFORMATION: Description: The Federal Tax Refund Offset and Administrative Offset programs collect past-due child and spousal support by intercepting certain federal payments, including federal tax refunds, of parents who have been ordered to pay support and are delinquent. The Federal Offset Program is a cooperative effort among the U.S. Department of the Treasury's Bureau of the Fiscal Service, OCSE, and state child support enforcement agencies. The Passport Denial Program reports noncustodial parents who owe child and spousal support above a specified threshold to the U.S. Department of State, which will then deny passports to these individuals. State child support enforcement agencies routinely submit the names, Social Security numbers, and the amount(s) of past-due child and spousal support of noncustodial parents who are delinquent in making payments to OCSE.

Respondents: Child Support Enforcement Agencies.

Annual Burden Estimates
Information collection instrument | Number of respondents | Number of responses per respondent | Average burden hours per response | Annual burden hours
Input Record Specifications | 54 | 52 | .3 | 842.4
Output Record Specifications | 54 | 52 | .46 | 1,291.68
Payment File | 54 | 52 | .14 | 393.12
Annual Certification Letter | 54 | 1 | .4 | 21.6
Child Support Portal Processing Screens | 173 | 281 | .01 | 486.13

Estimated Total Annual Burden Hours: 3,034.93.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 652(b); 42 U.S.C. 664; 26 U.S.C. 6402(c); 31 CFR 285.3; 45 CFR 302.60; 45 CFR 303.72; 31 U.S.C. 3701 et seq.; 31 U.S.C. 3716(h); 31 CFR 285.1; 42 U.S.C. 652(k); 42 U.S.C. 654(31); 22 CFR 51.60; 42 U.S.C. 654(31); 42 U.S.C. 664; 31 CFR 285.1; and 31 CFR 285.3.

Mary B. Jones,
ACF/OPRE Certifying Officer.

[FR Doc. 2021-26916 Filed 12-10-21; 8:45 am]

BILLING CODE 4184-41-P